ENVIRONMENTAL PROTECTION AGENCY

[EPA-HQ-OPP-2009-1005; FRL-8836-6]

Petitions Concerning Whether Ammonia or Urea Sold or Distributed and Used for Certain Purposes Should Be Regulated as Pesticides; Extension of Comment Period

AGENCY: Environmental Protection Agency (EPA).

ACTION: Notice; extension of comment period.

SUMMARY: EPA issued a notice in the Federal Register of May 19, 2010, concerning petitions concerning whether ammonia or urea sold or distributed and used for certain purposes should be regulated as pesticides. This document extends the comment period for 45 days, from July 19, 2010 to September 2, 2010.

DATES: Comments, identified by docket identification (ID) number EPA-HQ-OPP-2009-1005, must be received on or before September 2, 2010.

ADDRESSES: Follow the detailed instructions as provided under ADDRESSES in the Federal Register document of May 19, 2010.

FOR FURTHER INFORMATION CONTACT: Melba S. Morrow, Antimicrobials Division (7510P), Office of Pesticide Programs, Environmental Protection Agency, 1200 Pennsylvania Ave., NW., Washington, DC 20460-0001; telephone number: (703) 308-2716; e-mail address: morrow.melba @epa.gov.

SUPPLEMENTARY INFORMATION: This document extends the public comment period established in the Federal Register of May 19, 2010 (75 FR 28014) (FRL-8824-4). In that document, the Agency announced the availability of and sought public comment on petitions concerning whether ammonia or urea sold or distributed and used for certain purposes should be regulated as pesticides. EPA is hereby extending the comment period, which was set to end on July 19, 2010, to September 2, 2010.

To submit comments, or access the docket, please follow the detailed instructions as provided under ADDRESSES in the May 19, 2010 Federal Register document. If you have questions, consult the person listed under FOR FURTHER INFORMATION CONTACT.

List of Subjects

Environmental protection, Pesticides and pests.

Dated: July 7, 2010
Joan Harrigan-Farrelly,
Director, Antimicrobials Division, Office of Pesticide Programs.

[FR Doc. 2010-17152 Filed 7-13-10; 8:45 am]

BILLING CODE 6560-50-S